SECURITIES AND EXCHANGE COMMISSION

17 CFR Part 200

[Release No. 33-11337; 34-101867]

Commission's Organization and Program Management Regulations

AGENCY: Securities and Exchange Commission.

ACTION: Final rule; technical amendments.

SUMMARY: The Securities and Exchange Commission (“SEC” or “Commission”) is adopting technical amendments to update information relating to its regional offices listed in the Commission's Organization and Program Management regulations.

DATES: Effective December 16, 2024.

FOR FURTHER INFORMATION CONTACT: Tiffany Moseley, Senior Special Counsel, (202) 551-5100, Office of the General Counsel, Securities and Exchange Commission, 100 F Street NE, Washington, DC 20549-9150.

SUPPLEMENTARY INFORMATION:

I. Background

The Commission is amending the information in its Organization and Program Management regulations at 17 CFR 200.11 (Head Quarters Office—Regional Office Relationships) to reflect the closure of the Salt Lake Regional Office on October 26, 2024 and to update the addresses of regional offices that have moved.

II. Administrative Law Matters

The Commission finds, in accordance with the Administrative Procedure Act (“APA”), that the amendments to its rules to update the information for its regional offices relate solely to the agency's organization, procedure, or practice. Accordingly, the APA's provisions regarding notice of rulemaking and opportunity for public comment do not apply.¹ The Commission also finds that because these amendments do not substantially affect the rights or obligations of non-agency parties there is good cause not to provide advance publication of the amendments under the APA and therefore the amendments are effective on December 16, 2024.²

¹ 5 U.S.C. 553(b)(A).

² 5 U.S.C. 553(d).

For the same reasons, the provisions of the Small Business Regulatory Enforcement Fairness Act ³ and the provisions of the Regulatory Flexibility Act ⁴ do not apply. These amendments also do not contain any collection of information requirements as defined by the Paperwork Reduction Act of 1995.⁵ Further, because the amendments impose no new burdens on private parties, the Commission does not believe that the amendments will have any impact on competition for purposes of section 23(a)(2) of the Securities Exchange Act of 1934 (“Exchange Act”).⁶

³ 5 U.S.C. 804(3)(C) (the term “rule” does not include “any rule of agency organization, procedure, or practice that does not substantially affect the rights or obligations of non-agency parties”).

⁴ 5 U.S.C. 601(2) (provisions only applicable when notice and comment required by the APA).

⁵ 5 CFR 1320.3.

⁶ 15 U.S.C. 78w(a)(2).

III. Statutory Authority

These technical amendments are adopted pursuant to statutory authority granted to the Commission under section 19(a) of the Securities Act of 1933 and section 23(a) of the Exchange Act.

List of Subjects in 17 CFR Part 200

Administrative practice and procedure, Authority delegations (Government agencies).

Text of Amendments

For the reasons set out above, the Commission is amending title 17, chapter II, of the Code of Federal Regulations by making the following technical amendment:

PART 200—ORGANIZATION; CONDUCT AND ETHICS; AND INFORMATION AND REQUESTS

1. The authority citation for part 200 continues to read as follows:

Authority: 5 U.S.C. 552, 552a, 552b, and 557; 11 U.S.C. 901 and 1109(a); 15 U.S.C. 77c, 77e, 77f, 77g, 77h, 77j, 77o, 77q, 77s, 77u, 77z-3, 77ggg(a), 77hhh, 77sss, 77uuu, 78b, 78c(b), 78d, 78d-1, 78d-2, 78e, 78f, 78g, 78h, 78i, 78k, 78k-1, 78l, 78m, 78n, 78o, 78o-4, 78q, 78q-1, 78w, 78t-1, 78u, 78w, 78ll(d), 78mm, 78eee, 80a-8, 80a-20, 80a-24, 80a-29, 80a-37, 80a41, 80a-44(a), 80a-44(b), 80b-3, 80b-4, 80b-5, 80b-9, 80b-10(a), 80b-11, 7202, and 7211 et seq.; 29 U.S.C. 794; 44 U.S.C. 3506 and 3507; Reorganization Plan No. 10 of 1950 (15 U.S.C. 78d nt); sec. 8G, Pub. L. 95-452, 92 Stat. 1101 (5 U.S.C. App.); sec. 913, Pub. L. 111-203, 124 Stat. 1376, 1827; sec. 3(a), Pub. L. 114-185, 130 Stat. 538; E.O. 11222, 30 FR 6469, 3 CFR, 1964-1965 Comp., p. 36; E.O. 12356, 47 FR 14874, 3 CFR, 1982 Comp., p. 166; E.O. 12600, 52 FR 23781, 3 CFR, 1987 Comp., p. 235; Information Security Oversight Office Directive No. 1, 47 FR 27836; and 5 CFR 735.104 and 5 CFR parts 2634 and 2635, unless otherwise noted.

2. Amend § 200.11 by revising paragraph (b) to read as follows:

§ 200.11 Headquarters Office—Regional Office relationships.

* * * * *

(b) Regional Directors of the Commission.

Atlanta Regional Office: Alabama, Georgia, North Carolina, South Carolina, and Tennessee—Regional Director, 950 East Paces Ferry Rd. NE, Suite 900, Atlanta, GA 30326-1382.

Boston Regional Office: Connecticut, Maine, Massachusetts, New Hampshire, Rhode Island, and Vermont—Regional Director, 33 Arch Street, 24th Floor, Boston, MA 02110-1424.

Chicago Regional Office: Kentucky, Illinois, Indiana, Iowa, Michigan, Minnesota, Missouri, Ohio, and Wisconsin—Regional Director, 175 West Jackson Boulevard, Suite 1450, Chicago, IL 60604-2511.

Denver Regional Office: Colorado, Kansas, Nebraska, New Mexico, North Dakota, South Dakota, Utah, and Wyoming—Regional Director, 1961 Stout Street, Suite 1700, Denver, CO 80294-1961.

Fort Worth Regional Office: Arkansas, Kansas (for certain purposes), Oklahoma, and Texas—Regional Director, Burnett Plaza, Suite 1900, 801 Cherry Street, Unit #18, Fort Worth, TX 76102-6819.

Los Angeles Regional Office: Arizona, Southern California (zip codes 93599 and below, except 93200-93299), Guam, Hawaii, and Nevada—Regional Director, 444 South Flower Street, Suite 900, Los Angeles, CA 90071-2939.

Miami Regional Office: Florida, Louisiana, Mississippi, Puerto Rico, and the Virgin Islands—Regional Director, 801 Brickell Avenue, Suite 1950, Miami, FL 33131-4901.

New York Regional Office: New York and New Jersey—Regional Director, 100 Pearl Street, Suite 20-100, New York, NY 10004-2616.

Philadelphia Regional Office: Delaware, District of Columbia, Maryland, Pennsylvania, Virginia, and West Virginia—Regional Director, 1617 John F. Kennedy Boulevard, Suite 520, Philadelphia, PA 19103-1805.

San Francisco Regional Office: Alaska, Northern California (zip codes 93600 and up, plus 93200-93299), Idaho, Montana, Oregon, and Washington—Regional Director, 44 Montgomery Street, Suite 700, San Francisco, CA 94104-4619.

* * * * *

By the Commission.
Dated: December 10, 2024.
Vanessa A. Countryman,
Secretary.

[FR Doc. 2024-29420 Filed 12-13-24; 8:45 am]

BILLING CODE 8011-01-P